DEPARTMENT OF ENERGY

Office of Fossil Energy; Ultra-Deepwater Advisory Committee: Solicitation of Nominations for Appointment as a Member to the Ultra-Deepwater Advisory Committee

AGENCY: Department of Energy.

ACTION: Notice.

SUMMARY: The U.S. Department of Energy (DOE) Office of Fossil Energy is soliciting nominations for candidates to serve as members of the Ultra-Deepwater Advisory Committee. The Advisory Committee advises the Secretary of Energy on the development and implementation of programs under Subtitle J, Section 999 of the Energy Policy Act of 2005 (EPACT) related to ultra-deepwater natural gas and other petroleum resources, and reviews and provides written comments on the annual plan as also described in this subtitle of the EPACT. The membership of the Advisory Committee must be in accordance with the provisions of the Federal Advisory Committee Act and some members of the Advisory Committee may be appointed as special Government employees of the Department of Energy.

DATES: Nominations must be received by May 2, 2008.

FOR FURTHER INFORMATION CONTACT: For information regarding this Request for Nominations please contact Ms. Elena Melchert, Mr. Bill Hochheiser, or Mr. James Slutz, Designated Federal Official (DFO), Ultra-Deepwater Advisory Committee, at ultradeepwater@hq.doe.gov or (202) 586-5600. Complete text of Subtitle J, Section 999 of the Energy Policy Act of 2005 can be found on the DOE Office of Fossil Energy Web site at http://www.fe.doe.gov/programs/oilgas/advisorycommittees/UltraDeepwater.html.

SUPPLEMENTARY INFORMATION: Background: Under Subtitle J, Section 999, the Secretary of Energy is required to carry out a program of research, development, demonstration, and commercial application of technologies for ultra-deepwater and unconventional natural gas and other petroleum resource exploration and production, including addressing the technology challenges for small producers, safe operations, and environmental mitigation (including reduction of greenhouse gas emissions and sequestration of carbon). The activities should maximize the value of natural gas and other petroleum resources of the United States by increasing the supply of such resources through reducing the cost and increasing the efficiency of exploration for and production of such resources while improving safety and minimizing environmental impacts. In support of this subtitle, the Secretary will contract with a corporation that is structured as a program consortium [REF: Energy Policy Act of 2005, Pub. L. 109-58, Section 999B, 119 Stat. 917-921] to administer the activities outlined above.

The program includes improving safety and minimizing environmental impacts of activities involving ultra-deepwater architecture and technology, including drilling to formations in the Outer Continental Shelf to depths greater than 15,000 feet. Projects focus on the development and demonstration of individual exploration and production technologies as well as integrated systems technologies including new architectures for production in ultra-deepwater (water depths greater than or equal to 1500 meters). The Secretary is also required to prepare an annual plan that describes the ongoing and prospective activities of the program.

In May 2006, the Secretary established the Ultra-Deepwater Advisory Committee to advise the Department on the development and implementation of programs related to ultra-deepwater natural gas and other petroleum resources, and to review and comment on the annual plan. Re-chartering of this committee is currently underway.

Qualifications for membership of this committee include: (A) Individuals with extensive research experience or operational knowledge of offshore natural gas and other petroleum exploration and production; (B) individuals broadly representative of the affected interests in ultra-deepwater natural gas and other petroleum production, including interests in environmental protection and safe operations; (C) no individuals who are Federal employees; and (D) no individuals who are board members, officers, or employees of the program consortium [REF: Energy Policy Act of 2005, Pub. L. 109-58, Section 999D(a)(2), 119 Stat. 922].

How to Apply: Candidates who wish to be considered for appointment to the Committee should provide the following information by May 2, 2008. The format to be used for nomination is a resume that addresses the specific qualification criteria stated in Section 999D(a)(2) of the EPACT and other information. Details and specifications for preparing the resume are summarized below and can be found at http://www.fe.doe.gov/programs/oilgas/advisorycommittees/UltraDeepwater.html.

Resume should address all the information requested below: Full name; Professional Title (if applicable); Employment Affiliation; Address; Phone; E-mail; Professional experience related to ultra-deepwater natural gas and other petroleum resources; Education; Professional Affiliations and Awards; Professional Discipline(s); Affiliation with or nomination by industry or professional associations or other stakeholder groups; Fit with one or more membership categories specified by Section 999D(a)(2) of the Energy Policy Act of 2005: (A) “ * * * individuals with extensive research experience or operational knowledge of offshore natural gas and other petroleum exploration and production;” (B) “ * * * individuals broadly representative of the affected interests in ultra-deepwater natural gas and other petroleum production, including interests in environmental protection and safe operations;” Availability for the planned meeting dates of September 9 or 10, 2008 and October 14 or 15, 2008; Relationship to the Program Consortium (Note that board members, officers, and employees of the consortium are not eligible for appointment to this Committee.). [REF: Energy Policy Act of 2005, Subtitle J, Section 999D(a)(2)]

In accordance with the Federal Advisory Committee Act [REF: 5 U.S.C. App. 2], this committee's membership will be balanced in terms of the points of view represented. All resumes must be received by May 2, 2008. Candidates may use the form found at http://www.fe.doe.gov/programs/oilgas/advisorycommittees/UltraDeepwater.html to address the required resume elements. Candidates who wish to be considered for appointment to the Committee must submit a resume via one of the following methods:

1. E-mail to UltraDeepwater@hq.doe.gov (with resume embedded within the body of the e-mail message; no attachment).

2. Facsimile to 202/586-6221, Attn: UDAC Nomination.

3. Overnight delivery service to: U.S. Department of Energy, Mail Stop FE-30, 1000 Independence Avenue, SW., Washington, DC 20585. No resumes should be sent via the U.S. Postal Service due to extensive security processing that can damage documents and result in extensive delays.

4. Resume Submission Online at http://www.fe.doe.gov/programs/oilgas/advisorycommittees/UltraDeepwater.html.

For security reasons, no e-mail attachments are allowed, nor will they be opened if included. The closing date for receipt of resumes is May 2, 2008.

All resumes received will be acknowledged within 10 working days from date of receipt. Members will have their travel expenses reimbursed, but their time will not be compensated. Some members of the Advisory Committee may be appointed as special Government employees of the Department of Energy. Questions regarding the nomination process should be directed to Bill Hochheiser or Elena Melchert at 202/586-5600.

Issued in Washington, DC on April 4, 2008.
Rachel Samuel,
Deputy Committee, Management Officer.

[FR Doc. E8-7491 Filed 4-8-08; 8:45 am]

BILLING CODE 6450-01-P